DEPARTMENT OF HOMELAND SECURITY

Federal Emergency Management Agency

[FEMA-3200-EM]

Connecticut; Amendment No. 1 to Notice of an Emergency Declaration

AGENCY: Federal Emergency Management Agency, Emergency Preparedness and Response Directorate, Department of Homeland Security.

ACTION: Notice.

SUMMARY: This notice amends the notice of an emergency declaration for the State of Connecticut (FEMA-3200-EM), dated February 17, 2005, and related determinations.

EFFECTIVE DATE: February 25, 2005.

FOR FURTHER INFORMATION CONTACT: Magda Ruiz, Recovery Division, Federal Emergency Management Agency, Washington, DC 20472, (202) 646-2705.

SUPPLEMENTARY INFORMATION: Notice is hereby given that as authorized by the President in a letter dated February 17, 2005, FEMA is extending the time period for emergency protective measures (Category B) under the Public Assistance program from 48 hours to 72 hours. Assistance under this emergency is authorized at 75 percent Federal funding for eligible costs.

(Catalog of Federal Domestic Assistance No. 97.036, Disaster Assistance)
Michael D. Brown,
Under Secretary, Emergency Preparedness and Response, Department of Homeland Security.

[FR Doc. 05-4185 Filed 3-3-05; 8:45 am]

BILLING CODE 9110-10-P